DEPARTMENT OF LABOR

Veterans' Employment and Training

Office of the Assistant Secretary for “Incarcerated Veterans Transition Program”

AGENCY: Veterans' Employment and Training Service, Department of Labor.

Announcement Type: New Notice of Availability of Funds and Solicitation for Grant Applications. The full announcement is posted on http://www.grants.gov.

Funding Opportunity Number: SGA 10-04.

Key Dates: The closing date for receipt of applications is 30 days after publication via http://www.grants.gov.

Funding Opportunity Description: The U.S. Department of Labor, Veterans' Employment and Training Service (VETS), announces a grant competition to fund at least twelve (12) Incarcerated Veterans Reintegration Program (IVTP) grants designed to support incarcerated Veterans “at risk” of homelessness. These grants are being funded under the authority of 38 U.S.C. Section 2021 and 2023 as amended by Public Law 110-387, Sec. 602, titled the Expansion and Extension of Authority for Program of Referral and Counseling Services for At Risk Veterans Transitioning from Certain Institutions.

IVTP grants are intended to address two objectives: (1.) To provide referral and counseling services to assist in reintegrating incarcerated and/or transitioning incarcerated Veterans who are “at risk” of becoming homeless, into meaningful employment within the labor force, and (2.) To stimulate the development of effective service delivery systems that will address the complex problems facing incarcerated and/or transitioning incarcerated Veterans who are “at risk” of homelessness.

The full Solicitation for Grant Application is posted on http://www.grants.gov under U.S. Department of Labor/VETS. Applications submitted through http://www.grants.gov or hard copy will be accepted. If you need to speak to a person concerning these grants, you may telephone Cassandra Mitchell at 202-693-4570 (not a toll-free number). If you have issues regarding access to the http://www.grants.gov Web site, you may telephone the Contact Center Phone at 1-800-518-4726.

Signed at Washington, DC this 29th day of April, 2010.
Cassandra R. Mitchell,
Grant Officer.

[FR Doc. 2010-10553 Filed 5-4-10; 8:45 am]

BILLING CODE 4510-79-P